DEPARTMENT OF THE TREASURY

31 CFR Part 103

RIN 1506-AA28

Financial Crimes Enforcement Network; Anti-Money Laundering Programs for Financial Institutions; Correction

AGENCY: Financial Crimes Enforcement Network (FinCEN), Treasury.

ACTION: Interim final rule; correction.

SUMMARY: FinCEN published in the Federal Register of November 6, 2002, a document (67 FR 67547) extending the provision in its regulations that temporarily defers, for certain financial institutions, the application of the anti-money laundering program requirements in section 352 of the Uniting and Strengthening America by Providing Appropriate Tools Required to Intercept and Obstruct Terrorism (USA PATRIOT) Act of 2001. The document inadvertently omitted a minor change to a cross-reference and a minor change that would avoid listing the affected financial institutions twice in the same section. This correction adds both changes.

DATES: This correction is effective November 6, 2002.

FOR FURTHER INFORMATION CONTACT: Office of the Chief Counsel (FinCEN), (703) 905-3590 (not a toll-free number).

SUPPLEMENTARY INFORMATION:

Background

The interim rule that is the subject of these corrections provides guidance under 31 U.S.C. 5318(h)(1).

Need for Correction

As published, the interim rule contains errors that may prove to be misleading and are in need of clarification.

Correction of Publication

In interim rule FR Doc. 02-27770, published on November 6, 2002 (67 FR 67547), make the following corrections.

§ 103.170 [Corrected]

On page 68549, in column 2, correct amendatory instruction 2 to read as follows:

2. Section 103.170 is amended by:

a. Revising the section heading;

b. Amending the introductory text of paragraph (a) by removing the words “paragraph (b)” and adding in their place the words “paragraphs (c) and (d)”;

c. Removing and reserving paragraph (a)(2);

d. Revising paragraphs (b) and (c); and

e. Adding paragraph (d).

Dated: November 7, 2002.
Cynthia L. Clark,
Deputy Chief Counsel, Financial Crimes Enforcement Network, Federal Register Liaison.

[FR Doc. 02-28898 Filed 11-13-02; 8:45 am]

BILLING CODE 4810-02-P